NATIONAL FOUNDATION ON THE ARTS AND THE HUMANITIES

National Endowment for the Arts; Arts Advisory Panel

Pursuant to section 10(a)(2) of the Federal Advisory Committee Act (Pub. L. 92-463), as amended, notice is hereby given that four meetings of the Arts Advisory Panel to the National Council on the Arts will be held at the Nancy Hanks Center, 1100 Pennsylvania Avenue, NW., Washington, DC 20506 as follows:

Music (Access to Artistic Excellence, Panel B): July 25-27, 2005 in Room 714. A portion of this meeting, from 3:30 p.m. to 4:30 p.m. on Wednesday, July 27th, will be open to the public for policy discussion. The remainder of the meeting, from 9 a.m. to 6 p.m. on July 25th, from 9 a.m. to 5:30 p.m. on July 26th, and from 9 a.m. to 3:30 p.m. and 4:30 p.m. to 5 p.m. on July 27th, will be closed.

Music (Access to Artistic Excellence, Panel C): July 28-29, 2005 in Room 714. This meeting, from 9 a.m. to 6 p.m. on July 28th and from 9 a.m. to 4:45 p.m. on July 29th, will be closed.

Opera (Access to Artistic Excellence, Panel A): August 8-9, 2005 in Room 716. A portion of this meeting, from 4:30 p.m. to 5:15 p.m. on Tuesday, August 9th, will be open to the public for policy discussion. The remainder of the meeting, from 9 a.m. to 5:30 p.m. on August 8th and from 9 a.m. to 4:30 p.m. and 5:15 p.m. to 5:45 p.m. on August 9th, will be closed.

Opera (Access to Artistic Excellence, Panel B): August 10, 2005 in Room 716. This meeting, from 9 a.m. to 4:15 p.m., will be closed.

The closed portions of meetings are for the purpose of Panel review, discussion, evaluation, and recommendations on financial assistance under the National Foundation on the Arts and the Humanities Act of 1965, as amended, including information given in confidence to the agency. In accordance with the determination of the Chairman of April 8, 2005, these sessions will be closed to the public pursuant to subsection (c)(6) of section 552b of Title 5, United States Code.

Any person may observe meetings, or portions thereof, of advisory panels that are open to the public, and if time allows, may be permitted to participate in the panel's discussions at the discretion of the panel chairman. If you need special accommodations due to a disability, please contact the Office of AccessAbility, National Endowment for the Arts, 1100 Pennsylvania Avenue, NW., Washington, DC 20506, (202) 682-5532, TDY-TDD (202) 682-5496, at least seven (7) days prior to the meeting.

Further information with reference to this meeting can be obtained from Ms. Kathy Plowitz-Worden, Office of Guidelines & Panel Operations, National Endowment for the Arts, Washington, DC 20506, or call (202) 682-5691.

Dated: July 1, 2005.
Kathy Plowitz-Worden,
Panel Coordinator, Panel Operations, National Endowment for the Arts.

[FR Doc. 05-13376 Filed 7-6-05; 8:45 am]

BILLING CODE 7537-01-P